DEPARTMENT OF ENERGY

Federal Energy Regulatory Commission

[Docket No. ER04-310-000, et al.]

Morgan Stanley Capital Group, Inc., et al.; Electric Rate and Corporate Filings

January 29, 2004.

The following filings have been made with the Commission. The filings are listed in ascending order within each docket classification.

1. Morgan Stanley Capital Group, Inc.

[Docket No. ER04-310-000]

Take notice that on December 17, 2003, Morgan Stanley Capital Group, Inc., (MSCG) tendered for filing proposed changes to its First Revised Rate Schedule FERC No. 1 to authorize sales of ancillary services, reassignments of transmission capacity and resale of firm transmission rights.

Comment Date: February 6, 2004.

2. Nevada Power Company and Sierra Pacific Power Company

[Docket No. ER04-418-000]

Take notice that on January 21, 2004, Nevada Power Company and Sierra Pacific Power Company) submitted a compliance filing pursuant to the notice Clarifying Compliance Procedures issued January 8, 2004, in Docket Nos. RM02-1-000 and 001.

Comment Date: February 11, 2004.

3. Midwest Independent Transmission System Operator, Inc.

[Docket No. ER04-429-000]

Take notice that on January 21, 2004, Midwest Independent Transmission System Operator, Inc. (Midwest ISO), pursuant to section 205 of the Federal Power Act and section 35.12 of the Commission's regulations, 18 CFR 35.12 (2002), submitted for filing an Interconnection and Operating Agreement among Manitowoc Public Utilities, a municipal electric utility operated under Chap. 66, Wisconsin Statutes and political subdivision of the State of Wisconsin, the Midwest ISO and American Transmission Company LLC.

Midwest ISO states that a copy of this filing was served on the applicable parties.

Comment Date: February 11, 2004.

4. Ameren Services Company

[Docket No. ER04-430-000]

Take notice that on January 21, 2004, Ameren Services Company (ASC) tendered for filing an executed Network Integration Transmission Service and Network Operating Agreement between ASC and the City of Linneus, Missouri. ASC states that the purpose of the Agreements is to permit ASC to provide transmission service to the City of Linneus, Missouri, pursuant to Ameren's Open Access Transmission Tariff.

Comment Date: February 11, 2004.

5. Southwest Power Pool, Inc.

[Docket No.ER04-434-000]

Take notice that on January 20, 2004, the Southwest Power Pool, Inc. (SPP) submitted to the Federal Energy Regulatory Commission a compliance filing providing for changes to its currently effective Open Access Transmission Tariff (OATT). Specifically, SPP states that it filed proposed revisions in its standard Large Generator Interconnection Agreement (LGIA) and Large Generator Interconnection Procedures (LGIP), in accordance with Order No. 2003.

SPP states that it has served a copy of its transmittal letter on each of its Members and Customers, as well as on all generators in existing generation queue. SPP states that a complete copy of this filing will be posted on the SPP Web site http://www.spp.org, and is also being served on all affected State commissions.

Comment Date: February 11, 2004.

6. Southern California Edison Company

[Docket No. ER04-435-000]

Take notice that on January 20, 2004, Southern California Edison Company (SCE) tendered for filing revisions to its Transmission Owner Tariff in compliance with Commission Order No. 2003, Standardization of Generator Interconnection Agreements and Procedures.

Comment Date: February 10, 2004.

7. Tampa Electric Company

[Docket No. ER04-436-000]

Take notice that on January 20, 2004, Tampa Electric Company (Tampa Electric) tendered for filing open access transmission tariff sheets containing the Large Generator Interconnection Procedures and the Large Generator Interconnection Agreement that the Commission adopted in Order No. 2003, Standardization of Generator Interconnection Agreements and Procedures ¶ 31,146 (2003). Tampa Electric is requesting an effective date of January 20, 2004.

Tampa Electric states that the filing has been served on the customers under Tampa Electric's open access transmission tariff and the Florida Public Service Commission.

Comment Date: February 10, 2004.

8. Idaho Power Company

[Docket No. ER04-437-000]

Take notice that on January 20, 2004, Idaho Power Company in compliance with Order No. 2003, Standardization of Generator Interconnection Agreements and Procedures, FERC Stats. & Regs. Preambles ¶ 31,146 (2003), tendered for filing Attachment J to its revised Open Access Transmission Tariff, FERC Electric Tariff First Revised Volume No. 1.

Comment Date: February 10, 2004.

9. Novarco Ltd.

[Docket No. ER04-438-000]

Take notice that on January 20, 2004, Navarco Ltd. tendered for filing a Notice of Cancellation of its Rate Schedule FERC No. 1.

Comment Date: February 10, 2004.

10. PacifiCorp

[Docket No. ER04-439-000]

Take notice that PacifiCorp on January 20, 2004, tendered for filing in accordance with 18 CFR 35 of the Commission's Rules and Regulations, revisions to Schedules 4, 7, and 8 and Attachments M and S to PacifiCorp's Open Access Transmission Tariff.

PacifiCorp states that copies of this filing were supplied to the Public Utility Commission of Oregon, the Washington Utilities and Transportation Commission, and PacifiCorp's Network Customers.

Comment Date: February 10, 2004.

11. PSI Energy, Inc.

[Docket No. ER04-440-000]

Take notice that on January 20, 2004, PSI Energy, Inc., (PSI) tendered for filing the Transmission and Local Facilities Agreement for Calendar Year 2002 Reconciliation between PSI and Wabash Valley Power Association, Inc., and between PSI and Indiana Municipal Power Agency. PSI Energy, Inc., states that the Transmission and Local Facilities Agreement has been designated as PSI's Rate Schedule FERC No. 253.

Comment Date: February 10, 2004.

12. San Diego Gas & Electric Company

[Docket No. ER04-441-000]

Take notice that on January 20, 2004, San Diego Gas & Electric Company (SDG&E) tendered for filing its Transmission Owner Tariff (TO Tariff), FERC Electric Tariff, Original Volume No. 11 and the first revised rate sheets for its TO Tariff to comply with the Federal Energy Regulatory Commission's Order No. 2003.

SDG&E states that copies of this filing were served upon the California Public Utilities Commission.

Comment Date: February 10, 2004.

13. Arizona Public Service Company

[Docket No. ER04-442-000]

Take notice that on January 20, 2004, Arizona Public Service Company (APS) tendered for filing revisions to its Open Access Transmission Tariff (OATT) in order to comply with Order 2003 in FERC Docket Nos. RM02-1-000 and 001. APS requests an effective date of January 20, 2004.

APS states that a copy of the transmittal letter has been served on the Arizona Corporation Commission and all customers taking service under APS' OATT. APS further states that copies of the complete filing can be found at http://www.azpsoasis.com.

Comment Date: February 10, 2004.

14. Pacific Gas and Electric Company

[Docket No. ER04-443-000]

Take notice that on January 20, 2004, Pacific Gas and Electric Company (PG&E) tendered for revisions to its Transmission Owner (TO) Tariff, FERC Electric Tariff, Sixth Revised Volume No. 5 to comply with Commission Order No. 2003. PG&E requests that the subject revisions to its TO Tariff become effective on the same date as a companion tariff filing being made by the California Independent System Operator Corporation in compliance with Order No. 2003.

Comment Date: February 10, 2004.

15. Diverse Power Incorporated (formerly Troup Electric Membership Corp.)

[Docket No. ER04-444-000]

Take a notice that on January 20, 2004, Diverse Power Incorporated, an Electric Membership Corporation, tendered for filing with the Federal Energy Regulatory Commission a compliance filing in response to the Commission's November 17, 2003, Order Amending Market-based Rate Tariffs and Authorizations, in Docket No. EL01-118-000 and 001.

Comment Date: February 10, 2004.

16. California Independent System Operator System

[Docket No. ER04-445-000]

Take notice that on January 20, 2004, California Independent System Operator Corporation (ISO) pursuant to section 205 of the Federal Power Act and section 35.13 of the Commission Regulations, submitted for filing its Standard Large Generator Interconnection Procedures compliance with Order No. 2003. The ISO states that it included the related pro forma interconnection study agreements, which will not be part of the ISO Tariff, and related ISO Tariff amendments for Commission approval.

Comment Date: February 10, 2004.

17. Midwest Independent Transmission System Operator, Inc.

[Docket No. ER04-446-000]

Take notice that on January 20, 2004, the Midwest Independent Transmission System Operator, Inc. (Midwest ISO) submitted for filing a proposed Schedule 10-FERC-METC of its Open Access Transmission Tariff, FERC Electric Tariff, Second Revised Volume No. 1. Midwest ISO is requested an effective date of January 21, 2004.

The Midwest ISO requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region and in addition, the filing has been electronically posted on the Midwest ISO's Web site at www.midwestiso.org under the heading “Filings to FERC” for other interested parties in this matter. The Midwest ISO will provide hard copies to any interested parties upon request.

Comment Date: February 10, 2004.

18. PacifiCorp

[Docket No. ER04-447-000]

Take notice that on January 20, 2004, PacifiCorp tendered for filing with the Federal Energy Regulatory Commission (Commission) a request for an extension of time to adopt the pro forma large generator interconnection tariff provisions (pro forma) of the Commission's Order No. 2003 or, in the alternative, a request for acceptance by the Commission of PacifiCorp's amended large generator interconnection provisions for incorporation into its open access transmission tariff.

PacifiCorp states that the filing was served upon all appropriate parties.

Comment Date: February 10, 2004.

19. El Paso Electric Company

[Docket No. ER04-448-000]

Take notice that on January 20, 2004, El Paso Electric Company in compliance with Order No. 2003, Standardization of Generator Interconnection Agreements and Procedures, FERC Stats. & Regs. Preambles ¶ 31,146 (2003), tendered for filing Attachment J to its revised Open Access Transmission Tariff, FERC Electric Tariff Third Revised Volume No. 1.

Comment Date: February 10, 2004.

20. New York Independent System Operator Inc.

[Docket No. ER04-449-000]

Take notice that on January 20, 2004, the New York Independent System Operator, Inc. (NYISO) and the New York Transmission Owners filed a joint Compliance Filing pursuant to Order No. 2003.

NYISO states that it has served a copy of this filing upon all parties that have executed Service Agreements under the NYISO's Open-Access Transmission Tariff or Services Tariff, the New York State Public Service Commission and to the electric utility regulatory agencies in New Jersey and Pennsylvania.

Comment Date: February 10, 2004.

21. Citizens Communications Company

[Docket No. ER04-450-000]

Take notice that on January 20, 2004, Citizens Communications Company (Citizens) filed with the Federal Energy Regulatory Commission a Notice of Cancellation of its FERC Electric Tariff Original Volume No. 2 and all Service Agreements thereunder. Citizens states that it filed the Notice of Cancellation in connection with the sale of its remaining jurisdictional assets in Vermont to Vermont Electric Cooperative, Inc. (VEC).

Comment Date: February 10, 2004.

22. Midwest Independent Transmission System Operator, Inc.

[Docket No. ER04-453-000]

Take notice that on January 21, 2004, Midwest Independent Transmission System Operator, Inc. (Midwest ISO) pursuant to section 205 of the Federal Power Act and section 35.12 of the Commission's regulations, 18 CFR 35.12 (2002), the submitted for filing an Interconnection and Operating Agreement among Borderline Wind, LLC, the Midwest ISO and Otter Tail Power Company, a division of Otter Tail Corporation.

Midwest ISO states that a copy of this filing was served on the applicable parties.

Comment Date: February 11, 2004.

23. Midwest Independent Transmission System Operator, Inc.

[Docket No. ER04-454-000]

Take notice that on January 21, 2004, Midwest Independent Transmission System Operator, Inc. (Midwest ISO) pursuant to section 205 of the Federal Power Act and section 35.12 of the Commission's regulations, 18 CFR 35.12 (2002), submitted for filing an Interconnection and Operating Agreement among GM Transmission, LLC, the Midwest ISO and Interstate Power and Light Company, a wholly owned subsidiary of Alliant Energy Corporation.

Midwest ISO states that a copy of this filing was served on the applicable parties.

Comment Date: February 11, 2004.

24. Duke Energy Corporation

[Docket No. ER04-455-000]

Take notice that on January 21, 2004, Duke Energy Corporation, on behalf of Duke Electric Transmission, (collectively, Duke) tendered for filing a new Service Agreement for Network Integration Transmission Service between Duke and each of Energy United Electric Membership Corporation, Piedmont Electric Membership Corporation, Blue Ridge Electric Membership Corporation, Rutherford Electric Membership Corporation, and Western Carolina Energy, LLC. Duke seeks an effective date of January 1, 2004.

Comment Date: February 11, 2004.

25. Ameren Services Company

[Docket No. ER04-456-000]

Take notice that on January 20, 2004, Ameren Services Company (Ameren) filed revisions to its open access transmission tariff (OATT) to comply with the Commission's order, issued July 23, 2003, in Docket No. RM02-1-000, by amending Attachment J and setting out in Attachment K the procedures for large generator interconnection, applicable to Generating Facilities that exceed 20 MWs.

Ameren states that it has served copies of this filing on its transmission customers and on the Missouri Public Service Commission and the Illinois Commerce Commission.

Comment Date: February 10, 2004.

26. PJM Interconnection, L.L.C.

[Docket No. ER04-457-000]

Take notice that on January 20, 2004, PJM Interconnection, L.L.C. (PJM) tendered for filing proposed changes to the PJM Open Access Transmission Tariff to comply with the Commission's Order No. 2003, issued July 24, 2003, in Docket No. RM02-1-000.

PJM states that copies of this filing have been served on all PJM Members and the State electric regulatory commissions in the PJM region.

Comment Date: February 10, 2004.

27. Midwest Independent Transmission System Operator, Inc.

[Docket No. ER04-458-000]

Take notice that on January 20, 2004, the Midwest Independent Transmission System Operator, Inc. (Midwest ISO), filed proposed revised and original tariff sheets to its Open Access Transmission Tariff to comply with the Federal Energy Regulatory Commission's Standardization of Generator Interconnection Agreements and Procedures, 68 FR 49845 (Aug. 19, 2003), FERC Stats. & Regs. ¶ 31,146 (2003) (Order No. 2003).

Comment Date: February 10, 2004.

28. Southern Company Services, Inc.

[Docket No. ER04-459-000]

Take notice that on January 20, 2004, Southern Company Services, Inc., on behalf of Alabama Power Company, Georgia Power Company, Gulf Power Company, Mississippi Power Company and Savannah Electric and Power Company, submitted a filing pursuant to the Notice Clarifying Compliance Procedures issued in Docket No. RM02-1-000 on January 8, 2004.

Comment Date: February 10, 2004.

29. Tucson Electric Power Company UNS Electric, Inc.

[Docket No. ER04-460-000]

Take notice that on January 20, 2004, Tucson Electric Power Company (Tucson Electric) and UNS Electric, Inc. (UNS Electric) submitted a joint compliance filing pursuant to Order No. 2003, Standardization of Generator Interconnection Agreements and Procedures ¶ 31,146 (2003).

Comment Date: February 10, 2004.

30. Eagle Energy Partners I, L.P.

[Docket No. ER04-463-000]

On December 17, 2003, Eagle Energy Partners I, L.P. tendered for filing a name change from Eagle Energy Partners, Inc. This filing is in compliance with Order No. 614.

Comment Date: February 6, 2004.

31. Devon Power LLC, Middletown Power LLC, Montville Power LLC, and NRG Power Marketing Inc.

[Docket Nos. ER04-464-000 and 001, and ER04-23-002 and 003 (not consolidated)]

Take notice that on January 16, 2004, as amended on January 22, 2004, Devon Power LLC, Middletown Power LLC, and Montville Power LLC (Applicants), and NRG Power Marketing Inc. (PMI), acting as agent for Applicants, tendered for filing, pursuant to section 205 of the Federal Power Act and part 35 of the Federal Energy Regulatory Commission's regulations, Reliability Must Run Agreements among each of the Applicants, PMI and ISO New England Inc.

Applicants state that they have provided copies of the filings to ISO-NE and served each person designated on the official service list in Docket Nos. ER04-23-000.

Comment Date: February 12, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-214 Filed 2-5-04; 8:45 am]

BILLING CODE 6717-01-P